DEPARTMENT OF JUSTICE

Office of Justice Programs

[OJP (OJP) Docket No. 1543]

Meeting of the Office of Justice Programs' Science Advisory Board

AGENCY: Office of Justice Programs (OJP), Justice.

ACTION: Notice of meeting.

SUMMARY: This is an announcement of the first meeting of OJP's Science Advisory Board (“Board”). The Board is chartered to provide OJP, a component of the Department of Justice, with valuable advice in the areas of social science and statistics for the purpose of enhancing the overall impact and performance of its programs and activities in criminal and juvenile justice. The Board will provide input into developing long-range plans, advise on program development, and provide guidance to ensure adherence to the highest levels of scientific rigor, as appropriate. The Board will provide an important base of contact with the criminal justice academic and practitioner communities.

DATES: The meeting will take place on Friday, January 28, 2011, from 10 a.m. to 4 p.m. ET.

ADDRESSES: The meeting will take place at OJP's offices at 810 7th Street, NW., Washington, DC.

FOR FURTHER INFORMATION CONTACT: Marlene Beckman, Designated Federal Officer (DFO), Office of the Assistant Attorney General, Office of Justice Programs, 810 7th Street Northwest, Washington, DC 20531; Phone: (202) 616-3562 [Note: this is not a toll-free number]; E-mail: marlene.beckman@usdoj.gov.

SUPPLEMENTARY INFORMATION: This inaugural meeting is being convened to brief the Board members about OJP's mission and goals, and discuss how their advice in the areas of social science and statistics can enhance the overall impact and performance of OJP's activities and programs in criminal and juvenile justice. The final agenda is subject to adjustment, but it is anticipated that there will be a morning and afternoon session, with a break for lunch. The morning session will likely include welcoming remarks and introductions, a review of the Board's Charter and By-Laws, a review of ethics rules applicable to the Board's activities, and briefings from OJP bureaus and program offices. The afternoon session will likely include a briefing on OJP's Evidence Integration Initiative and a discussion of the Board's role and priorities.

This meeting is open to the public. Members of the public who wish to attend this meeting must register with Marlene Beckman at the above address at least seven (7) days in advance of the meeting. Registrations will be accepted on a space available basis. Access to the meeting will not be allowed without registration. Please bring photo identification and allow extra time prior to the meeting. Persons interested in communicating with the Board should submit their written comments to the DFO, as the time available will not allow the public to directly address the Board at the meeting. Anyone requiring special accommodations should notify Ms. Beckman at least seven (7) days in advance of the meeting.

Dated: January 5, 2011.
Marlene Beckman,
Counsel and SAB DFO, Office of the Assistant Attorney General, Office of Justice Programs.

[FR Doc. 2011-287 Filed 1-10-11; 8:45 am]

BILLING CODE 4410-18-P